DEPARTMENT OF COMMERCE

International Trade Administration

[A-570-898]

Chlorinated Isocyanurates from the People's Republic of China: Final Results of Antidumping Duty Administrative Review

AGENCY: Import Administration, International Trade Administration, Department of Commerce.

DATES: Effective Date: December 14, 2009.

SUMMARY: The Department of Commerce (“the Department”) is conducting an administrative review of the antidumping duty order on chlorinated isocyanurates from the People's Republic of China (“PRC”) covering the period June 1, 2007, through May 31, 2008. We invited interested parties to comment on our preliminary results. Based on our analysis of the comments received, we have made changes to our margin calculations. Therefore, the final results differ from the preliminary results.

FOR FURTHER INFORMATION CONTACT: Brandon Petelin or Charles Riggle, AD/CVD Operations, Office 8, Import Administration, International Trade Administration, U.S. Department of Commerce, 14th Street and Constitution Avenue, NW, Washington, DC 20230; telephone: (202) 482-8173 or (202) 482-0650, respectively.

Background

On June 8, 2009, the Department published its preliminary results of review of the antidumping order on chlorinated isocyanurates from the PRC. See Chlorinated Isocyanurates from the People's Republic of China: Preliminary Results of Antidumping Duty Administrative Review, 74 FR 27104 (June 8, 2009) (“Preliminary Results”). On June 29, 2009, Clearon Corporation (“Clearon”) and Occidental Chemical Corporation (“Petitioners”), Petitioners in the underlying investigation, and Hebei Jiheng Chemical Corporation, Ltd. (“Jiheng”) provided additional information on the appropriate surrogate values to use as a means of valuing the factors of production. On July 8, 2009, the Department received a request for a hearing from Petitioners. On July 13, 2009, the Department received a case brief from Petitioners. On July 20, 2009, the Department received a rebuttal brief from Jiheng. On July 27, 2009, Petitioners withdrew their request for a public hearing. On October 30, 2009, the Department placed additional surrogate value information on the record of this review for steam coal. On November 3, 2009, the Department received comments from Jiheng on the additional surrogate value information. We have conducted this administrative review in accordance with section 751 of the Tariff act of 1930, as amended (“the Act”), and 19 CFR 351.213.

Scope of the Order

The products covered by this order are chlorinated isocyanurates, as described below: Chlorinated isocyanurates are derivatives of cyanuric acid, described as chlorinated s-triazine triones. There are three primary chemical compositions of chlorinated isocyanurates: (1) trichloroisocyanuric acid (Cl3(NCO)3), (2) sodium dichloroisocyanurate (dihydrate) (NaCl2(NCO)3•2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, 2933.69.6050, 3808.40.50, 3808.50.40 and 3808.94.50.00 of the Harmonized Tariff Schedule of the United States (“HTSUS”). The tariff classification 2933.69.6015 covers sodium dichloroisocyanurates (anhydrous and dehydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

Analysis of Comments Received

All issues raised in the post-preliminary comments by parties in this review are addressed in the memorandum from John M. Andersen, Acting Deputy Assistant Secretary for Antidumping and Countervailing Duty Operations, to Carole A. Showers, Acting Deputy Assistant Secretary for Import Administration, “Issues and Decision Memorandum for the 2007-2008 Administrative Review of Chlorinated Isocyanurates from the People's Republic of China,” (“Issues and Decision Memorandum”) dated concurrently with this notice, which is hereby adopted by this notice. A list of the issues that parties raised and to which we responded in the Issues and Decision Memorandum is attached to this notice as an appendix. The Issues and Decision Memorandum is a public document and is on file in the Central Records Unit (“CRU”) in room 1117 in the main Commerce Department building, and is also accessible on the Web at http://ia.ita.doc.gov/frn. The paper copy and electronic version of the memorandum are identical in content.

Changes Since the Preliminary Results

Based on our analysis of comments received, we have made changes in the margin calculations for Jiheng. See Issues and Decision Memorandum at Comments 1-5.

We revised the steam coal surrogate value from the Preliminary Results. For these final results, we have relied on data for categories B and C steam coal from both the 2004 and 2007 Coal India Ltd. publications. See Issues and Decision Memorandum at Comment 2 and “Surrogate Value Memorandum: Final Results of the 2007-2008 Administrative Review of the Antidumping Duty Order on Chlorinated Isocyanurates from the People's Republic of China,” (“Final Surrogate Value Memorandum”) dated concurrently with this notice.

We revised the financial ratio calculations using financial statements from Kanoria Chemicals and Industries Limited for the year ended March 31, 2008. See Issues and Decision Memorandum at Comment 3 and the Final Surrogate Value Memorandum, dated concurrently with this notice.

We corrected certain ministerial errors in the calculations for the Preliminary Results. See Issues and Decision Memorandum at Comment 5 and Memorandum to the File titled “Analysis Memorandum for the Final Results: Hebei Jiheng Chemical Company, Ltd.,” dated concurrently with this notice.

We revised the electricity calculation used in the Preliminary Results by using updated electricity data from the Central Electricity Authority, an administrative body of the government of India, as published in the March 2008 report titled Electricity Tariff & duty and average rates of electricity supply in India. See Attachment 6B of Jiheng's June 29, 2009, Surrogate Value Submission and the Final Surrogate Value Memorandum.

Final Results of Review

We determined that the following dumping margin exists for the period June 1, 2007, through May 31, 2008.

Exporter | Weighted-Average Margin Percentage
Jiheng | 20.16

Assessment Rates

The Department intends to issue assessment instructions to U.S. Customs and Border Protection (“CBP”) 15 days after the date of publication of these final results of review. In accordance with 19 CFR 351.212(b)(1), we have calculated importer-specific assessment rates for merchandise subject to this review.

Cash Deposit Requirements

The following deposit requirements will be effective upon publication of this notice of final results of administrative review for all shipments of subject merchandise entered, or withdrawn from warehouse, for consumption on or after the date of publication, as provided by section 751(a)(2)(C) of the Act: (1) for subject merchandise exported by Jiheng, the cash deposit rate will be 20.16 percent; (2) for previously reviewed or investigated exporters not listed above that have separate rates, the cash deposit rate will continue to be the exporter-specific rate published for the most recent period; (3) for all PRC exporters of subject merchandise, which have not been found to be entitled to a separate rate, the cash deposit rate will be the PRC-wide rate of 285.63 percent; and (4) for all non-PRC exporters of subject merchandise that have not received their own rate, the cash deposit rate will be the rate applicable to the PRC exporter that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these final results of review and notice in accordance with sections 751(a) and 777(i) of the Act.

Dated: December 7, 2009.
Carole A. Showers,
Acting Deputy Assistant Secretary for Import Administration.

Appendix

List of Comments and Issues in the Issues and Decision Memorandum

Surrogate Values

Comment 1: Surrogate Value for Urea

Comment 2: Surrogate Value for Steam Coal

Comment 3: Financial Ratios

Comment 4: Surrogate Value for Anhydrous Ammonia

Company Specific Issues

Jiheng

Comment 5: Clerical Error - By Product Offset

[FR Doc. E9-29731 Filed 12-11-09; 8:45 am]

BILLING CODE 3510-DS-S